DEPARTMENT OF AGRICULTURE

Rural Housing Service

Notice of Request for Extension of a Currently Approved Information Collection

AGENCY: Rural Housing Service (RHS), USDA.

ACTION: Proposed collection; comments requested.

SUMMARY: In accordance with the Paperwork Reduction Act of 1995, this notice announces the Rural Housing Service's intention to request an extension for a currently approved information collection in support of the program for Farm Labor Housing Technical Assistance Grants.

DATES: Comments on this notice must be received by November 25, 2003, to be assured of consideration.

FOR FURTHER INFORMATION CONTACT: Douglas MacDowell, Senior Loan Specialist, Multi-Family Housing Processing Division, RHS, United States Department of Agriculture, Stop 0781, 1400 Independence Ave., SW., Washington, DC 20250-0781, Telephone (202) 720-1604.

SUPPLEMENTARY INFORMATION: Title: Farm Labor Housing Technical Assistance Grants.

OMB Number: 0575-0181.

Expiration Date of Approval: June 30, 2004.

Type of Request: Extension of a currently approved information collection.

Abstract: The Rural Housing Service (RHS) is authorized under Section 514 of Title V of the Housing Act of 1949, as amended, to make loans for the construction of farm labor housing. Section 516 of the Act authorizes USDA to make grants for the same purpose. These authorities are implemented through 7 CFR part 1944, subpart D.

Section 516 also authorizes USDA to provide financial assistance to private and public nonprofit agencies to encourage the development of farm labor housing. Recipients of this assistance, in turn, assist other organizations obtain loans and grants for the construction of farm labor housing. RHS refers to this assistance as Farm Labor Housing Technical Assistance. RHS publishes Requests for Proposals (RFPs) in the Federal Register to invite grant proposals from private and public nonprofit agencies who wish to participate in this funding. The RFP sets forth the eligibility and application requirements.

The information will be collected from applicants and grant recipients by RHS staff in the National Office and Rural Development field offices. This information will be used to determine applicant eligibility for a grant, project feasibility, to select grant proposals for funding, and to monitor performance after grants have been awarded. If an applicant's proposal is selected for funding, they will be notified of the selection and be given the opportunity to submit a formal application.

Estimate of Burden: Public reporting burden for this collection of information is estimated to average 2.7 hours per response.

Respondents: Private and public nonprofit agencies.

Estimated Number of Respondents: 6.

Estimated Number of Responses per Respondent: 7.

Estimated Number of Responses: 42.

Estimated Total Annual Burden on Respondents: 115 hours.

Copies of this information collection can be obtained from Tracy Givelekian, Regulations and Paperwork Management Branch, at (202) 692-0039.

Comments: Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Tracy Givelekian, Regulations and Paperwork Management Branch, U.S. Department of Agriculture, Rural Development, STOP 0742, 1400 Independence Ave. SW., Washington, DC 20250. All responses to this notice will be summarized and included in the request for OMB approval. All comments will also become a matter of public record.

Dated: September 17, 2003.
Arthur A. Garcia,
Administrator, Rural Housing Service.

[FR Doc. 03-24415 Filed 9-25-03; 8:45 am]

BILLING CODE 3410-XV-P